DEPARTMENT OF HEALTH AND HUMAN SERVICES

Administration for Children and Families

Submission for OMB Review; Comment Request

Title: Form CB-496. Title IV-E Programs Quarterly Financial Report.

OMB No.: 0970-0205.

Description: Through FY 2008, only State agencies were responsible for administering the Foster Care and Adoption Assistance Programs under title IV-E of the Social Security Act. With the enactment of Public Law 110-351, the “Fostering Connections to Success and Increasing Adoptions Act of 2008,” title IV-E was expanded, effective with FY 2009, to include a third program, Guardianship Assistance, and was further expanded, effective with FY 2010, to include Tribes, tribal organizations and consortia as additional grantees.

Ultimately, the combined effect of these changes will be to significantly increase the number of grantees, the number of grant awards and the required amount of financial reporting. In recognition of these substantial program revisions and to accommodate these changes, the quarterly financial report has been revised, redesigned and re-designated as Form CB-496, the “Title IV-E Programs Quarterly Financial Report.”

The Administration for Children and Families (ACF) provides Federal funding at the rate of 50 percent for most administrative and other related costs and at enhanced rates ranging from 55 to 75 percent for training costs as detailed in Federal statute and regulations. This form is submitted quarterly by each State and Tribe to estimate the funding needs for the upcoming fiscal quarter and to report expenditures for the fiscal quarter just ended. The information collected in this report is used by this agency to calculate quarterly Federal grant awards and to enable oversight of the financial management of the programs.

Comments concerning these revisions were received from both Federal and grantee staffs by the ACF Office of Grants Management, both directly and in response to an earlier Federal Register Notice (74 FR 22749, May 14, 2009) that provided many useful recommendations and suggestions, many of which were incorporated into the final draft product.

Respondents: State and Tribal title IV-E agencies administering the Foster Care, Adoption Assistance and Guardianship Assistance Programs.

Annual Burden Estimates
Instrument | Number of respondents | Number of responses per respondent | Average burden hours per response | Total burden hours
Form CB-496 | 62 | 4 | 17 | 4,216

Estimated Total Annual Burden Hours: 4,216

Additional Information: Copies of the proposed collection may be obtained by writing to the Administration for Children and Families, Office of Administration, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: May 12, 2010.
Robert Sargis,
Reports Clearance Officer.

[FR Doc. 2010-11814 Filed 5-17-10; 8:45 am]

BILLING CODE 4184-01-M